DEPARTMENT OF TRANSPORTATION

Maritime Administration

[Docket No. MARAD-2019-0011]

Deepwater Port License Application—SPOT Terminal Services LLC

AGENCY: Maritime Administration, U.S. Department of Transportation.

ACTION: Notice of availability; Notice of public meeting; Request for comments.

SUMMARY: The Maritime Administration (MARAD) and the U.S. Coast Guard (USCG) announce the availability of the Draft Environmental Impact Statement (DEIS) for the SPOT Terminal Services LLC (SPOT) deepwater port license application for the export of oil from the United States to nations abroad. A Notice of Application that summarized the SPOT deepwater port license application was published in the Federal Register on March 4, 2019 (84 FR 7413). A Notice of Intent to Prepare an Environmental Impact Statement (EIS) and Notice of Public Meetings was published in the Federal Register on March 7, 2019 (84 FR 8401). This Notice of Availability incorporates the aforementioned Federal Register notices by reference. The application describes a project that would be located approximately 27.2 to 30.8 nautical miles off the coast of Brazoria County, Texas. Publication of this notice begins a 45-day comment period, requests public participation in the environmental impact review process, provides information on how to participate in the environmental impact review process and announces an informational open house and public meeting in Lake Jackson, Texas.

DATES: MARAD and USCG will hold one public meeting in connection with the SPOT DEIS. The public meeting will be held in Lake Jackson, Texas, on February 26, 2020, from 6 p.m. to 8 p.m. The public meeting will be preceded by an open house from 4 p.m. to 6 p.m. The public meeting may end later than the stated time, depending on the number of persons who wish to make a comment on the record. Additionally, materials submitted in response to this request for comments on the DEIS must be submitted to the www.regulations.gov website or the Federal Docket Management Facility as detailed in the ADDRESSES section below by the close of business on March 23, 2020.

ADDRESSES: The open house and public meeting in Lake Jackson, Texas will be held at the Courtyard Marriott Lake Jackson, 159 State Highway 288, Lake Jackson, Texas, 77566, phone: (979) 297-7300, web address: https://www.marriott.com/hotels/travel/ljncy-courtyard-lakejackson/. Free parking is available at the venue.

The SPOT deepwater port license application, comments, supporting information and the DEIS are available for viewing at the Regulations.gov website: http://www.regulations.gov under docket number MARAD-2019-0011. The Final EIS (FEIS), when published, will be announced and available at this site as well.

The public docket for the SPOT deepwater port license application is maintained by the U.S. Department of Transportation, Docket Management Facility, West Building, Ground Floor, Room W12-140, 1200 New Jersey Avenue SE, Washington, DC 20590. Comments on the DEIS may be submitted to this address and must include the docket number for this project, which is MARAD-2019-0011. The Federal Docket Management Facility's telephone number is 202-366-9317 or 202-366-9826, the fax number is 202-493-2251.

We encourage you to submit comments electronically through the Federal eRulemaking Portal at http://www.regulations.gov. If you submit your comments electronically, it is not necessary to also submit a hard copy by mail. If you cannot submit material using http://www.regulations.gov, please contact either Mr. William Nabach, USCG, or Ms. Yvette M. Fields, MARAD, as listed in the following FOR FURTHER INFORMATION CONTACT section of this document. This section provides alternate instructions for submitting written comments. Additionally, if you go to the online docket and sign up for email alerts, you will be notified when comments are posted.

FOR FURTHER INFORMATION CONTACT: Mr. William Nabach, Project Manager, USCG, telephone: 202-372-1437, email: William.A.Nabach2@uscg.mil; or Ms. Yvette Fields, Director, Office of Deepwater Ports and Port Conveyance, MARAD, telephone: 202-366-0926, email: Yvette.Fields@dot.gov.

SUPPLEMENTARY INFORMATION:

Request for Comments

We request public comments or other relevant information related to the DEIS for the proposed SPOT deepwater port. These comments will inform our preparation of the FEIS. We encourage attendance at the open house and public meeting; however, you may submit comments electronically, and it is preferred that comments be submitted electronically. Regardless of the method you use to submit comments or material, all submissions will be posted, without change, to the Federal Docket Management Facility website (http://www.regulations.gov), and will include any personal information you provide. Therefore, submitting this information makes it public. You may wish to read the Privacy and Use Notice that is available on the www.regulations.gov website, and the Department of Transportation (DOT) Privacy Act Notice that appeared in the Federal Register on April 11, 2000 (65 FR 19477), see PRIVACY ACT. You may view docket submissions at the DOT Docket Management Facility or electronically at the www.regulations.gov website.

Public Meeting and Open House

You are invited to learn about the proposed SPOT deepwater port at the subject informational open house and public meeting. You are also encouraged to provide comments on the proposed action and the environmental impact analysis contained in the DEIS for the proposed SPOT deepwater port. Speakers may register upon arrival and will be recognized in the following order: Elected officials, public agency representatives, then individuals or groups in the order in which they registered. In order to accommodate all speakers, speaker time may be limited, meeting hours may be extended, or both. Speakers' transcribed remarks will be included in the public docket. You may also submit written material for inclusion in the public docket. Written material must include the author's name. We ask attendees to respect the meeting procedures in order to ensure a constructive information-gathering session. Please do not bring signs or banners inside the meeting venue. The presiding officer will use his/her discretion to conduct the meeting in an orderly manner.

Public meeting locations are wheelchair accessible; however, attendees who require special assistance such as sign language interpretation or other reasonable accommodation, please notify the USCG (see FOR FURTHER INFORMATION CONTACT) at least five (5) business days in advance. Please include contact information as well as information about specific needs.

Background

On January 31, 2019, MARAD and USCG received a license application from SPOT for all Federal authorizations required for a license to construct, own, and operate a deepwater port for the export of oil. The proposed deepwater port would be located in Federal waters approximately 27.2 to 30.8 nautical miles off the coast of Brazoria County, Texas. Texas was designated as the Adjacent Coastal State (ACS) for the SPOT license application.

The Federal agencies involved held a public scoping meeting in connection with the SPOT license application. The public scoping meeting was held in Lake Jackson, Texas on March 20, 2019. Transcripts of the scoping meetings are included on the public docket located at www.regulations.gov under docket number MARAD-2019-0011-0019.

MARAD and USCG issued a regulatory “stop-clock” letter to SPOT on May 31, 2019, which remained in effect until October 23, 2019, when MARAD and USCG determined the agencies received sufficient information to continue the Federal review process.

The purpose of the DEIS is to analyze reasonable alternatives to, and the direct, indirect and cumulative environmental impacts of, the proposed action. The DEIS is currently available for public review at the Federal docket website: www.regulations.gov under docket number MARAD-2019-0011.

Summary of the License Application

SPOT is proposing to construct, own, and operate a deepwater port terminal in the Gulf of Mexico to export domestically produced crude oil. Use of the deepwater port would include the loading of various grades of crude oil at flow rates of up to 85,000 barrels per hour (bph). The SPOT deepwater port would allow for up to two (2) Very Large Crude Carriers (VLCCs) or other crude oil carriers to moor at single point mooring (SPM) buoys and connect with the deepwater port via floating connecting crude oil hoses and a floating vapor recovery hose. The maximum frequency of loading VLCCs or other crude oil carriers would be 2 million barrels per day, 365 days per year.

The overall project would consist of offshore and marine components as well as onshore components as described below.

The SPOT deepwater port offshore and marine components would consist of the following:

• One (1) fixed offshore platform with eight (8) piles in Galveston Area Outer Continental Shelf lease block 463, approximately 27.2 to 30.8 nautical miles off the coast of Brazoria County, Texas in a water depth of approximately 115 feet. The fixed offshore platform would be comprised of four (4) decks including: A sump deck with shut-down valves and open drain sump; a cellar deck with pig launchers and receivers, generators, and three (3) vapor combustion units; a main deck with a lease automatic custody transfer (LACT) unit, oil displacement prover loop, living quarters, electrical and instrument building, and other ancillary equipment; and a laydown deck with a crane laydown area.

• Two (2) single point mooring buoys (SPMs), each having: Two (2) 24-inch inside diameter crude oil underbuoy hoses interconnecting with the crude oil pipeline end manifold (PLEM); two (2) 24-inch inside diameter floating crude oil hoses connecting the moored VLCC or other crude oil carrier for loading to the SPM buoy; one (1) 24-inch inside diameter vapor recovery underbuoy hose interconnecting with the vapor recovery PLEM; and one (1) 24-inch inside diameter floating vapor recovery hose to connect to the moored VLCC or other crude oil carrier for loading. The floating hoses would be approximately 800 feet in length and rated for 300 psig (21-bar). Each floating hose would contain an additional 200 feet of 16-inch “tail hose” that is designed to be lifted and robust enough for hanging over the edge railing of the VLCC or other crude oil vessels. The underbuoy hoses would be approximately 160 feet in length and rated for 300 psig (21-bar).

• Four (4) PLEMs would provide the interconnection between the pipelines and the SPM buoys. Each SPM buoy would have two (2) PLEMs—one (1) PLEM for crude oil and one (1) PLEM for vapor recovery. Each crude oil loading PLEM would be supplied with crude oil by two (2) 30-inch outside diameter pipelines, each approximately 0.66 nautical miles in length. Each vapor recovery PLEM would route recovered vapor from the VLCC or other crude oil carrier through the PLEM to the three (3) vapor combustion units located on the platform topside via two (2) 16-inch outside diameter vapor recovery pipelines, each approximately 0.66 nautical miles in length.

• Two (2) co-located 36-inch outside diameter, 40.8-nautical mile long crude oil pipelines would be constructed from the shoreline crossing in Brazoria County, Texas, to the SPOT deepwater port for crude oil delivery. These pipelines, in conjunction with 12.2 statute miles of new-build onshore pipelines (described below), would connect the onshore crude oil storage facility and pumping station (Oyster Creek Terminal) to the offshore SPOT deepwater port. The crude oil would be metered at the offshore platform. Pipelines would be bi-directional for the purposes of maintenance, pigging, changing crude oil grades, or evacuating the pipeline with water.

The SPOT deepwater port onshore storage and supply components would consist of the following:

• New equipment and piping at the existing Enterprise Crude Houston (ECHO) Terminal to provide interconnectivity with the crude oil supply network for the SPOT Project. This would include the installation of four (4) booster pumps, one (1) measurement skid, and four (4) crude oil pumps.

• An interconnection between the existing Rancho II pipeline and the proposed ECHO to Oyster Creek pipeline consisting of a physical connection as well as ultrasonic measurement capability for pipeline volumetric balancing purposes.

• The proposed Oyster Creek Terminal located in Brazoria County, Texas, on approximately 140 acres of land consisting of seven (7) aboveground storage tanks, each with a total storage capacity of 685,000 barrels (600,000 barrels working storage capacity), for a total onshore storage capacity of approximately 4.8 million barrels (4.2 million barrels working storage) of crude oil. The Oyster Creek Terminal also would include: Six (6) electric-driven mainline crude oil pumps; four (4) electric-driven booster crude oil pumps (two (2) per pipeline), working in parallel to move crude oil from the storage tanks through the measurement skids; two (2) crude oil pipeline pig launchers/receivers; one (1) crude oil pipeline pig receiver; two (2) measurement skids for measuring incoming crude oil—one (1) skid located at the incoming pipeline from the existing Enterprise Crude Houston (ECHO) Terminal, and one (1) skid installed and reserved for a future pipeline connection; two (2) measurement skids for measuring departing crude oil; three (3) vapor combustion units—two (2) permanent and one (1) portable; and ancillary facilities to include electrical substation, office, and warehouse buildings.

• Three onshore crude oil pipelines would be constructed onshore to support the SPOT deepwater port. These would include: One (1) 50.1 statute mile long 36-inch crude oil pipeline from the existing ECHO Terminal to the Oyster Creek Terminal. This pipeline would be located in Harris County and Brazoria County, Texas; two (2) 12.2 statute mile long, co-located 36- inch crude oil export pipelines from the Oyster Creek Terminal to the shore crossing where these would join the above described subsea pipelines supplying the SPOT deepwater port. These pipelines would be located in Brazoria County, Texas.

Privacy Act

Regardless of the method used for submitting comments or materials, all submissions will be posted, without change to www.regulations.gov and will include any personal information you provide. Therefore, submitting this information to the docket makes it public. You may wish to read the Privacy and Security Notice, as well as the User Notice, that is available on the www.regulations.gov website. The Privacy Act notice regarding the Federal Docket Management System is available in the March 24, 2005, issue of the Federal Register (70 FR 15086).

(Authority: 33 U.S.C. 1501 et seq., 49 CFR 1.93(h))

* * * * *

Dated: February 4, 2020.
By Order of the Maritime Administrator.
T. Mitchell Hudson, Jr.,
Secretary, Maritime Administration.

[FR Doc. 2020-02430 Filed 2-6-20; 8:45 am]

BILLING CODE 4910-81-P